DEPARTMENT OF ENERGY

Federal Energy Regulatory Commission

Combined Notice of Filings #1

September 29, 2005.

Take notice that the Commission received the following electric rate filings:

Docket Numbers: ER02-2310-003.

Applicants: Crescent Ridge LLC.

Description: Crescent Ridge LLC submits an amendment to its market-based rate tariff in compliance with Commission Order issued 6/7/05.

Filed Date: 09/22/2005.

Accession Number: 20050926-0043.

Comment Date: 5 p.m. eastern time on Thursday, October 13, 2005.

Docket Numbers: ER03-1101-010.

Applicants: PJM Interconnection, LLC.

Description: PJM Interconnection LLC submits the fourth of four six-month reports on the effects of its credit policy for virtual bidders as required by Commission Orders issued 9/22/03 and 12/20/04.

Filed Date: 09/22/2005.

Accession Number: 20050926-0044.

Comment Date: 5 p.m. eastern time on Thursday, October 13, 2005.

Docket Numbers: ER04-435-016.

Applicants: Southern California Edison Company.

Description: Southern California Edison Co submits revisions to its Transmission Owner Tariff, FERC Electric Tariff, Second Revised Volume No. 6, in compliance with Commission Order issued 7/1/05.

Filed Date: 09/23/2005

Accession Number: 20050927-0042

Comment Date: 5 p.m. eastern time on Friday, October 14, 2005.

Docket Numbers: ER05-1085-001; ER04-458-008

Applicants: Midwest Independent Transmission System Operator, Inc.

Description: Midwest Independent Transmission System Operator, Inc. submits proposed revision to Attachment AA (Compensation & Cost Recovery for Actions During Emergency Condition) of the Open Access Transmission & Energy Market Tariff, Third Revised Volume No. 1.

Filed Date: 09/23/2005

Accession Number: 20050927-0028

Comment Date: 5 p.m. eastern time on Friday, October 14, 2005.

Docket Numbers: ER05-1308-001

Applicants: New England Power Company

Description: New England Power Co submits an amendment to its 8/9/05 interconnection & support agreement with Massachusetts Electric Co & the Town of Marblehead Municipal Light Dept.

Filed Date: 09/23/2005

Accession Number: 20050927-0025

Comment Date: 5 p.m. eastern time on Friday, October 14, 2005.

Docket Numbers: ER05-1451-001

Applicants: Southwestern Public Service Company

Description: Southwestern Public Service Co submits an amended Notice of Cancellation of the SPS Rate Schedule FERC No. 108, Agreement for Wholesale Full Requirements Electric Power Service entered on 11/14/89.

Filed Date: 09/22/2005

Accession Number: 20050926-0042

Comment Date: 5 p.m. eastern time on Thursday, October 13, 2005.

Docket Numbers: ER05-1498-000

Applicants: Midwest Independent Transmission System Operator, Inc.

Description: Midwest Independent Transmission System Operator, Inc submits an Interconnection and Operating Agreement among Velva Windfarm LLC, Midwest ISO, and Northern States Power Company dba Xcel Energy.

Filed Date: 09/22/2005

Accession Number: 20050923-0369

Comment Date: 5 p.m. eastern time on Thursday, October 13, 2005.

Docket Numbers: ER05-1499-000

Applicants: Midwest Independent Transmission System Operator, Inc.

Description: Midwest Independent Transmission System Operator Inc submits a Facilities Construction Agreement among Velva Windfarm LLC, Midwest ISO, and Great River Energy.

Filed Date: 09/22/2005

Accession Number: 20050923-0368

Comment Date: 5 p.m. eastern time on Thursday, October 13, 2005.

Docket Numbers: ER05-1500-000

Applicants: Public Service Company of New Mexico

Description: Public Service Co of New Mexico submits a Funding Agreement for Certain Design, Engineering and Construction Services, dated 9/9/05 with Tri-State Generation and Transmission Cooperative, Inc and PNM.

Filed Date: 09/22/2005

Accession Number: 20050923-0367

Comment Date: 5 p.m. eastern time on Thursday, October 13, 2005.

Docket Numbers: ER05-1501-000

Applicants: California Independent System Operator Corporation

Description: California Independent System Operator Corp submits a Simplified and Reorganized ISO Tariff pursuant to section 205 of the Federal Power Act.

Filed Date: 09/22/2005

Accession Number: 20050926-0201

Comment Date: 5 p.m. eastern time on Thursday, October 13, 2005.

Docket Numbers: ER05-1502-000

Applicants: California Independent System Operator Corporation

Description: California Independent System Operator Corp submits an amendment to the CAISO Tariff (Amendment 72) pursuant to section 205 of the Federal Power Act under ER05-1502.

Filed Date: 09/22/2005

Accession Number: 20050926-0046

Comment Date: 5 p.m. eastern time on Thursday, October 13, 2005.

Docket Numbers: ER05-1503-000

Applicants: Wheelabrator North Andover, Inc.

Description: Wheelabrator North Andover, Inc, successor in interest to Massachusetts Refusetech, Inc, submits a notice of cancellation of MRI's electric tariff, Rate Schedule FERC No. 1.

Filed Date: 09/23/2005

Accession Number: 20050927-0026

Comment Date: 5 p.m. eastern time on Friday, October 14, 2005

Docket Numbers: ER05-1504-000

Applicants: Indianapolis Power & Light Company

Description: Indianapolis Power & Light Co submits a notice of cancellation of Service Agreement 33 under its OATT, FERC Electric Tariff, Original Volume No. 1.

Filed Date: 09/23/2005

Accession Number: 20050927-0038

Comment Date: 5 p.m. eastern time on Friday, October 14, 2005.

Docket Numbers: ER05-1505-000; ER04-1157-000

Applicants: Buckeye Power Generating, LLC

Description: Buckeye Power Generating, LLC advises FERC that due to amendments to section 201(f) of the Federal Power Act, it is no longer a public utility.

Filed Date: 09/23/2005

Accession Number: 20050927-0039

Comment Date: 5 p.m. eastern time on Friday, October 14, 2005.

Docket Numbers: ER05-1506-000

Applicants: American Transmission Company, LLC; Midwest Independent Transmission System Operator, Inc.

Description: American Transmission Company, LLC and Midwest ISO submit revised tariff sheet with a proposed change to the Midwest ISO's Open Access Transmission & Energy Market Tariff, FERC Electric Tariff, Third Revised Volume No. 1.

Filed Date: 09/23/2005

Accession Number: 20050927-0040

Comment Date: 5 p.m. eastern time on Friday, October 14, 2005.

Docket Numbers: ER05-1507-000

Applicants: New York Independent System Operator, Inc.

Description: New York Independent System Operator, Inc submits proposed revisions to its Market Administration & Control Area Services Tariff.

Filed Date: 09/23/2005

Accession Number: 20050927-0041

Comment Date: 5 p.m. eastern time on Friday, October 14, 2005.

Docket Numbers: ER99-2156-005

Applicants: Cordova Energy Company LLC

Description: Cordova Energy Co, LLC submits revised market-based tariff in compliance with Commission Letter Order issued 9/14/05.

Filed Date: 09/23/2005

Accession Number: 20050927-0027

Comment Date: 5 p.m. eastern time on Friday, October 14, 2005.

Docket Numbers: ER99-3151-005

Applicants: Public Service Electric & Gas Company

Description: PSEG Energy Resources & Trade LLC submit a Notice of Change in Status with regard to the representations upon which FERC relied in granting market-base rate authority.

Filed Date: 09/22/2005

Accession Number: 20050923-0360

Comment Date: 5 p.m. eastern time on Thursday, October 13, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E5-5445 Filed 10-4-05; 8:45 am]

BILLING CODE 6717-01-P